NUCLEAR REGULATORY COMMISSION

[NRC-2010-0361]

Toshiba Corporation Power Systems Company Notice of Receipt and Availability of an Application for Renewal of the U.S. Advanced Boiling Water Reactor Design Certification

On November 2, 2010, Toshiba Corporation Power Systems Company (Toshiba) filed with the U.S. Nuclear Regulatory Commission (NRC, the Commission) pursuant to title 10 of the Code of Federal Regulations (10 CFR) part 52, “Licenses, Certifications, and Approvals for Nuclear Power Plants,” an application for a design certification (DC) renewal for the U.S. Advanced Boiling Water Reactor (ABWR).

An applicant may seek a DC Renewal in accordance with subpart B of 10 CFR part 52. The application was submitted in accordance with the requirements of 10 CFR 52.57(a). The information submitted by the applicant includes: Requests that the U.S. ABWR design certification be amended pursuant to 10 CFR 52.59(c); an aircraft impact assessment amendment pursuant to 10 CFR 50.150; and an environmental report pursuant to 10 CFR 52.47(b)(2) and 10 CFR 51.55(b).

Subsequent Federal Register notices will address the acceptability of the tendered DC Renewal application for docketing and provisions for participation of the public in the DC Renewal review process.

A copy of the application is available for public inspection at the Commission's Public Document Room (PDR), located at One White Flint North, Public File Area O1-F21, 11555 Rockville Pike (first floor), Rockville, Maryland, and via the Agencywide Documents Access and Management System (ADAMS) Public Electronic Reading Room on the Internet at the NRC Web site, http://www.nrc.gov/reading-rm/adams.html. The accession numbers for the application are ML103080158 and ML103080513. Future publicly available documents related to the application will also be posted in ADAMS. Persons who do not have access to ADAMS, or who encounter problems in accessing the documents located in ADAMS, should contact the NRC Public Document Room staff by telephone at 1-800-397-4209 or 301-415-4737, or by e-mail to pdr.resource@nrc.gov. The application is also available at http://www.nrc.gov/reactors/new-reactors/design-cert.html.

Dated at Rockville, Maryland, this 18th day of November 2010.
For the Nuclear Regulatory Commission.
David Misenhimer,
Project Manager, BWR Projects Branch, Division of New Reactor Licensing, Office of New Reactors.

[FR Doc. 2010-29610 Filed 11-23-10; 8:45 am]

BILLING CODE 7590-01-P